DEPARTMENT OF THE TREASURY

Submission for OMB Review; Comment Request

August 15, 2006.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW. Washington, DC 20220.

Dates: Written comments should be received on or before September 20, 2006 to be assured of consideration.

Internal Revenue Service (IRS)

OMB Number: 1535-0048.

Type of Review: Revision.

Title: Certificate of Identity.

Form: PD F 385.

Description: The form is used to establish the identity of the owner of U.S. Savings Securities.

Respondents: Individuals and households.

Estimated Total Burden Hours: 50 hours.

OMB Number: 1535-0063.

Type of Review: Revision.

Title: Request for payment of reissue of U.S. Savings Bonds deposited in Safekeeping.

Form: PD F 4239.

Description: Used to request reissue or payment of bonds in safekeeping when custody receipts are not available.

Respondents: Individuals or households.

Estimated Total Burden Hours: 34 hours.

OMB Number: 1535-0100.

Type of Review: Extension.

Title: Affidavit By Individual Surety.

Form: PD F 4095.

Description: Affidavit from individual acting as surety for indemnification agreement for lost, stolen or destroyed securities.

Respondents: Individuals or households.

Estimated Total Burden Hours: 460 hours.

Clearance Officer: Vicki S. Thorpe, (304) 480-8150, Bureau of the Public Debt, 200 Third Street, Parkersburg, West Virginia 26106.

OMB Reviewer: Alexander T. Hunt, (202) 395-7316, Office of Management and Budget, Room 10235, New Executive Office Building, Washington, DC 20503.

Michael A. Robinson,
Treasury PRA Clearance Officer.

[FR Doc. E6-13737 Filed 8-18-06; 8:45 am]

BILLING CODE 4810-39-P